DEPARTMENT OF AGRICULTURE

Office of the Secretary/Office of the Chief Scientist

Meeting Notice of the National Agricultural Research, Extension, Education, and Economics Advisory Board

AGENCY: Research, Education, and Economics, USDA.

ACTION: Notice of public meeting.

SUMMARY: In accordance with the Federal Advisory Committee Act, the National Agricultural Research, Extension, and Teaching Policy Act of 1977 and the Agriculture Improvement Act of 2018, the United States Department of Agriculture (USDA) announces a meeting of the National Agricultural Research, Extension, Education, and Economics Advisory Board.

DATES: The National Agricultural Research Extension, Education, and Economics Advisory Board will meet virtually by Zoom on February 9, 2022, from 11:00 a.m.-4:15 p.m. and February 10, 2022, from 11:00 a.m. -3:30 p.m. Eastern Time (ET). The public may file written comments before or up to February 24, 2022, with Shirley Morgan-Jordan, Program Support Coordinator by email at nareee@usda.gov.

ADDRESSES: The meeting will take place virtually via Zoom.

Web Preregistration: Participants wishing to participate may preregister by emailing the NAREEE Advisory Board at nareee@usda.gov. Upon registration you will receive an email link to participate by Zoom in the meeting.

Written comments may be sent to The National Agricultural Research, Extension, Education, and Economics Advisory Board Office, United States Department of Agriculture, 1400 Independence Avenue SW, Room 6019, The South Building, Washington, DC 20250-2255. We recommend you email all comments to nareee@usda.gov for receipt confirmation.

FOR FURTHER INFORMATION CONTACT: Kate Lewis, Executive Director/Designated Federal Official, or Shirley Morgan-Jordan, Program Support Coordinator, National Agricultural Research, Extension, Education, and Economics Advisory Board; telephone: (202) 631-1434 or (202) 380-5373 or email: nareee@usda.gov.

SUPPLEMENTARY INFORMATION:

Purpose of the meeting: To provide advice and recommendations on the top priorities and policies for food and agricultural research, education, extension, and economics. The focus of this meeting will be on the deliberation of the report and recommendations of the relevance and adequacy review of the climate and energy needs programs of the USDA Research, Education, and Extension mission area and the Cooperative Extension activities of the land-grant university system. The Board will also hear from REE leadership and receive updates from the subcommittees of the Board. The latest agenda details will be available at https://nareeeab.ree.usda.gov/meetings/general-meetings or you may request a copy by email at nareee@usda.gov.

On Wednesday, February 9. 2022 and February 10, 2022, the meeting will be held between 11:00 a.m. and 4:15 p.m. Eastern Time (ET) each day.

Public Participation: This meeting is open to the public. For any interested individuals, you may participate via internet and telephone. Opportunity for public comment will be offered. To attend the meeting via Zoom and/or make oral statements regarding any items on the agenda, you must contact Shirley Morgan-Jordan at email: nareee@usda.gov at least 5 business days prior to the meeting. Members of the public will be heard in the order in which they sign up at the beginning of the meeting. The Chair will conduct the meeting to facilitate the orderly conduct of business. Written comments by attendees or other interested stakeholders will be welcomed for the public record before and up to two weeks following the Board meeting (or by close of business February 24, 2022). All written statements must be sent to Shirley Morgan-Jordan, Program Support Coordinator, National Agricultural Research, Extension, Education, and Economics Advisory Board, U.S. Department of Agriculture, Room 332A, Jamie L. Whitten Building, Mail Stop 0321, 1400 Independence Avenue SW, Washington, DC 20250-0321; or email: nareee@usda.gov. All statements will become a part of the official record of the National Agricultural Research, Extension, Education, and Economics Advisory Board and will be kept on file for public review in the Research, Education, and Economics Advisory Board Office.

Dated: January 25, 2022.
Cikena Reid,
USDA Committee Management Officer.

[FR Doc. 2022-02019 Filed 2-2-22; 8:45 am]

BILLING CODE 3410-03-P